DEPARTMENT OF DEFENSE

Department of the Army

Notice of Availability of the Final Supplemental Programmatic Environmental Impact Statement (SPEIS) for Army Growth and Force Structure Realignment To Support Operations in the Pacific Theater

AGENCY: Department of the Army, DoD.

ACTION: Notice of Availability.

SUMMARY: The Department of the Army announces the availability of the Final SPEIS for the growth and realignment of the U.S. Army to support operations in the Pacific Theater. Pursuant to the National Environmental Policy Act (NEPA), the Department of the Army has prepared a Final SPEIS that evaluates the potential environmental and socioeconomic effects associated with alternatives for implementing the growth and realignment of the Army's forces to support operations in the Pacific Theater. Potential impacts have been analyzed in the Final SPEIS at installations that are capable of supporting operations in the Pacific Theater.

DATES: The waiting period for the Final SPEIS will end 30 days after the publication of the Notice of Availability in the Federal Register by the U.S. Environmental Protection Agency.

ADDRESSES: To obtain a copy of the Final SPEIS contact: Public Affairs Office, U.S. Army Environmental Command, Building E4460, Attention: IMAE-PA, 5179 Hoadley Road, Aberdeen Proving Ground, MD 21010-5401.

FOR FURTHER INFORMATION CONTACT: Public Affairs Office at (410) 436-2556 or facsimile at (410) 436-1693 during normal business hours Monday through Friday 9 a.m. to 5 p.m. Eastern Daylight Time or e-mail APGR USAECPublicComments@conus.army.mil.

SUPPLEMENTARY INFORMATION: The Army's Proposed Action and analysis within the Final SPEIS covers those activities the Army may undertake from 2008 through 2013 to grow, realign, and transform its forces to support operations in the Pacific Theater. Implementation of the Proposed Action will ensure the proper capabilities exist to sustain operations and regional security in the Pacific Theater now and into the foreseeable future. The implementation of the Proposed Action will better meet military operational needs, national and regional security requirements, and the needs of the Army's Soldiers and their Families. To implement the Proposed Action, new units with critical military skills must be stationed at locations that are capable of supporting strategic deployment and mobilization requirements to support operations in the Pacific Theater. These stationing locations must be capable of accommodating unit training, garrison operations, maintenance activities, and the needs of Soldiers and their Families.

The SPEIS supplements the Army's Final Programmatic EIS for Army Growth and Force Structure Realignment (2007). The Final SPEIS evaluates installations that are capable of supporting operations in the Pacific Theater. The Final SPEIS includes analysis of actions that will need to be taken (such as the construction of housing and quality of life facilities, the construction of new training ranges and infrastructure, and changes in the intensity of use of maneuver land and firing ranges) to station new units as part of the Army's overall efforts to grow and realign the force in the Pacific Theater.

The Army has considered a full range of sites for implementing the Proposed Action. Alternative stationing locations that the Army has considered for supporting the Proposed Action include the major training installations the Army considered in its 2007 Programmatic EIS as well as four additional installations in Hawaii and Alaska. Additional installations include Schofield Barracks Military Reservation (SBMR), HI; Fort Shafter, HI; Fort Richardson, AK; and Fort Wainwright, AK. Each of these installations could receive additional Soldiers as part of alternatives being examined.

Alternatives in the Final SPEIS include stationing of additional Combat Support (CS) or Combat Service Support (CSS) units or new support brigades. The following alternatives were analyzed in the SPEIS: (1) Support operations in the Pacific Theater by implementing Army-wide modular force and transformation recommendations within U.S. Army Pacific. This alternative involves the stationing of approximately 1,500-2,000 Soldiers at Army installations in Hawaii and in Alaska; (2) In addition to Army growth under Alternative 1, Alternative 2 includes growth and transformation of Army forces to support operations in the Pacific Theater by stationing additional CS and CSS units in locations capable of supporting these operations. The Army would station approximately 1,500-2,500 additional CS and CSS Soldiers beyond Alternative 1; (3) In addition to Army 3 growth under Alternatives 1 and 2, as part of Alternative 3 the Army would grow, transform, and realign forces by stationing additional support brigades in locations capable of supporting operations in the Pacific Theater. Support brigades could include the stationing of an additional Maneuver Enhancement Brigade (approximately 570 Soldiers), a Combat Aviation Brigade (approximately 2,800 Soldiers), and/or a Fires Brigade (approximately 1,600 Soldiers).

In addition to the above alternatives, the No Action Alternative was considered and used as a baseline for comparison of alternatives. It is not a viable means for meeting the current and future strategic security and defense requirements of the nation. The No Action Alternative would retain U.S. Army forces in their current end strength and force structure. The No Action Alternative includes the implementation of stationing actions directed by Base Realignment and Closure legislation in 2005, Army Global Defense Posture Realignment, Army Modular Forces initiatives, and Army Growth and Force Structure Realignment decisions published in January 2008.

The Army's preferred alternative identified in the Final SPEIS is to implement Alternative 3. This alternative allows for full support of those activities the Army may undertake from 2008 through 2013 to grow, realign, and transform its forces to support operations in the Pacific Theater. Under this alternative, the Army is projecting that it would station approximately 4,100 new Soldiers at locations that are capable of supporting the strategic and operational needs in the Pacific Theater. The implementation of the Proposed Action does not involve 4 the stationing of additional Army Brigade Combat Teams (BCT5). As part of the preferred alternative, the Army would station approximately 2,090 Soldiers in Alaska which includes an additional Maneuver Enhancement Brigade. In addition, the Army would station approximately 2,055 new Soldiers in Hawaii to implement Army-wide modularity and increase critical support capabilities in the Pacific Theater. No Fires Brigade or Aviation Brigade would be stationed to support the Proposed Action as part of the Preferred Alternative.

Analysis within the Final SPEIS covers those activities required to implement unit stationing actions associated with Army growth and force structure realignment to support operations in the Pacific Theater. Actions the Army will take to support unit stationing include the construction of housing and quality of life facilities (i.e., gymnasiums, hospitals, shopping areas), the construction of new training ranges and infrastructure, and changes in the intensity of use of maneuver land and firing ranges associated with the increased frequency of training events.

The Final SPEIS identifies the environmental and socioeconomic impacts associated with various unit stationing actions that could be implemented to support the Proposed Action. As the programmatic decision made at the Army Headquarters-level is implemented, follow-on NEPA documentation may be prepared to evaluate the specific environmental impacts likely to result from alternative means of carrying out the stationing actions, as well as identify any potential means for mitigating those impacts associated with the stationing decision.

A copy of the Final SPEIS can be accessed through the U.S. Army Environmental Command Web site at http://www.aec.army.mil.

Dated: July 18, 2008.
John E. Tesner, Jr.,
Assistant for Restoration, Office of the Deputy Assistant Secretary of the Army (Environment, Safety, and Occupational Health).

[FR Doc. E8-16842 Filed 7-23-08; 8:45 am]

BILLING CODE 3710-08-M